DEPARTMENT OF HOMELAND SECURITY

[Docket No. DHS-2018-0007]

Homeland Security Science and Technology Advisory Committee

AGENCY: Science and Technology Directorate, DHS.

ACTION: Committee management; notice of open Federal Advisory Committee meeting.

SUMMARY: The Homeland Security Science and Technology Advisory Committee (HSSTAC) will meet via teleconference on Thursday, February 22, 2018. The meeting will be an open session.

DATES: The HSSTAC teleconference meeting will take place Thursday, February 22, 2018 from 11:00 a.m. to 12:00 p.m. The meeting may close early if the committee has completed its business.

ADDRESSES: Members of the public may participate by teleconference but you must register. Please see the “REGISTRATION” section below.

FOR FURTHER INFORMATION CONTACT: Michel Kareis, HSSTAC Designated Federal Official, S&T Interagency Office (IAO), STOP 0205, Department of Homeland Security, 245 Murray Lane, Washington, DC 20528-0205, 202-254-8778 (Office), 202-254-6176 (Fax), HSSTAC@hq.dhs.gov (Email).

SUPPLEMENTARY INFORMATION:

I. Background

Notice of this meeting is given under the Federal Advisory Committee Act (FACA), 5 U.S.C. Appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

To pre-register for the teleconference please send an email to: HSSTAC@hq.dhs.gov with the following subject line: RSVP to HSSTAC meeting. The email should include the name(s), title, organization/affiliation, email address, and telephone number of those interested in attending. You must RSVP by February 20, 2018.

For information on services for individuals with disabilities or to request special assistance at the meeting, please contact Michel Kareis as soon as possible. Her contact information is listed above in the FOR FURTHER INFORMATION CONTACT section.

III. Public Comment

At the end of the open session, there will be a period for oral statements. Please note that the comments period may end before the time indicated, following the last call for oral statements. To register as a speaker, contact the person listed in the FOR FURTHER INFORMATION CONTACT section.

To facilitate public participation, we invite public comment on the issues to be considered by the committee as listed in the “Agenda” below. Anyone is permitted to submit comments at any time, including orally at the meeting. However, those who would like their comments reviewed by committee members prior to the meeting must submit them in written form no later than February 19, 2018. Please include the docket number (DHS-2018-0007) and submit via one of the following methods:

• Federal eRulemaking Portal: http://www.regulations.gov. Follow the instructions for submitting comments.

• Email: hsstac@hq.dhs.gov. Include the docket number in the subject line of the message.

• Fax: 202-254-6176.

• Mail: Michel Kareis, HSSTAC Designated Federal Official, S&T IAO, STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2018-0007.

Agenda: The session will begin with remarks from the Designated Federal Official, Michel Kareis, and the Committee Chair, Dr. Vincent Chan. Next the Social Media Working Group for Emergency Services and Disaster Management Subcommittee will discuss their report, “Countering Misinformation, Rumors, and Fake News on Social Media in Emergencies and Disasters”, followed by a full committee vote to accept the report. To request a copy of the report prior to the meeting please send an email to: hsstac@hq.dhs.gov. The last item on the agenda will be the announcement of a new subcommittee on Systems Engineering Feasibility.

A public comment period will be held at the end of the open session.

Dated: February 6, 2018.
Michel Kareis,
Designated Federal Official for the HSSTAC.

[FR Doc. 2018-02665 Filed 2-8-18; 8:45 am]

BILLING CODE 9110-9F-P